DEPARTMENT OF TRANSPORTATION

Noise Compatibility Program Notice; Laredo International Airport; Laredo, TX

AGENCY: Federal Aviation Administration, DOT.

ACTION: Notice.

SUMMARY: The Federal Aviation Administration (FAA) announces its findings on the noise compatibility program submitted by the City of Laredo under the provisions of 49 U.S.C. (the Aviation Safety and Noise Abatement Act, hereinafter referred to as “the Act”) and 14 CFR part 150. These findings are made in recognition of the description of Federal and nonfederal responsibilities in Senate Report No. 96-52 (1980). On September 22, 2005, the FAA determined that the noise exposure maps submitted by the City of Laredo under Part 150 were in compliance with applicable requirements. On June 22, 2007, the FAA approved the Laredo International Airport noise compatibility program. Most of the recommendations of the program were approved. No program elements relating to new or revised flight procedures for noise abatement were proposed by the airport operator.

DATES: Effective Date: The effective date of the FAA's approval of the Laredo International Airport noise compatibility program is June 22, 2007.

FOR FURTHER INFORMATION CONTACT: (Mr. Paul E. Blackford, Department of Transportation, Federal Aviation Administration, Fort Worth, Texas 76193-0650, (817) 222-5607.) Documents reflecting this FAA action may be reviewed at this same location.

SUPPLEMENTARY INFORMATION: This notice announces that the FAA has given its overall approval to the noise compatibility program for Laredo International Airport, effective June 22, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in:

Part 150 and the act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA regional office in For Worth, Texas.

The City of Laredo submitted to the FAA on February 28, 2007, the noise exposure maps, descriptions, and other documentation produced during the noise compatibility planning study conducted from October 27, 2004, through December 18, 2006. The Laredo International Airport noise exposure maps were determined by FAA to be in compliance with applicable requirements on September 22, 2005. Notice of this determination was published in the Federal Register on September 30, 2005.

The Laredo International Airport study contains a proposed noise compatibility program comprised of actions designed for phased implementation by airport management and adjacent jurisdictions from January 4, 2007 beyond the year 2010. It was requested that the FAA evaluate and approve this material as a noise compatibility program as described in section 47504 of the Act. The FAA began its review of the program on February 28, 2007, and was required by a provision of the Act to approve or disapprove the program within 180 days (other than the use of new or modified flight procedures for noise control). Failure to approve or disapprove such program within the 180-day period shall be deemed to be an approval of such program.

The submitted program contained seven proposed actions for noise mitigation off the airport. The FAA completed its review and determined that the procedural and substantive requirements of the Act and FAR Part 150 have been satisfied. The overall program, therefore, was approved by the FAA effective June 22, 2007.

Outright approval was granted for five of the specific program elements. One element was disapproved and one element was approved in part. The disapproved Element proposed to offer fee simple acquisition, or the purchase of an avigation easement from owners of vacant land in the squared off 65 DNL contour.

Vacant land is considered a compatible land use and the City of Laredo has adequate controls in place to prevent noncompatible land use development. The disapprove in part element proposed to replace the noise contours in city Ordinance No. 94-0-012 with worst-case scenario contours developed by the City. Replacement of the contours included in the City Ordinance with the contours shown in the 2010 Future Condition Noise Exposure Map With Program Implementation was approved. Replacement of Ordinance Contours with the worst-case scenario contours was disapproved for purposes of Part 150. Three elements proposed fee simple acquisition, sound insulation, or purchase of an avigation easement in separate geographical areas around the airport. The three measures were approved. One of the remaining two elements proposed coordination with the Texas Real Estate Commission to gain approval of a modification to the Seller's Disclosure form. The revision would require depiction of the property location within the boundaries of the Noise Exposure Map. The remaining element proposed an update to the Noise Exposure Maps and Noise Compatibility Program should noise levels significantly increase or decrease. Both elements were approved.

These determinations are set forth-in detail in a Record of Approval signed by the Southwest Region, Airports Division Manager on June 22, 2007. The Record of Approval, as well as other evaluation materials and the documents comprising the submittal, are available for review at the FAA office listed above and at the administrative offices of the Laredo International Airport. The Record of Approval also will be available on-line at http://www.faa.gov/arp/environmental/14cfr150/index14.cfm.

Issued in Fort Worth, Texas, July 3, 2007.
Kelvin L. Solco,
Manager, Airports Division.

[FR Doc. 07-3407 Filed 7-12-07; 8:45 am]

BILLING CODE 4910-13-M